DEPARTMENT OF THE INTERIOR

Bureau of Land Management

[FXRS126108DESTO 134F1611MD FF08RDSC00; N-54955]

Public Land Order No. 7828; Extension of Public Land Order No. 7070; Nevada

AGENCY: Bureau of Land Management, Interior.

ACTION: Public Land Order.

SUMMARY: This order extends the duration of the withdrawal created by Public Land Order No. 7070, as corrected, for an additional 20-year period. The extension is necessary for continued protection of the Desert National Wildlife Range in Clark and Lincoln Counties, Nevada, which would otherwise expire on August 3, 2014.

DATES: Effective Date: August 4, 2014.

FOR FURTHER INFORMATION CONTACT: Vanessa L. Hice, Assistant Field Manager, Bureau of Land Management Las Vegas Field Office at 702-515-5000, or email: vhice@blm.gov. Persons who use a telecommunications devise for the deaf (TDD) may call the Federal Information Relay Services (FIRS) at 1-800-877-8339 to reach the BLM contact person. The FIRS is available 24 hours a day, 7 days a week, to leave a message or question with the above individual. You will receive a reply during normal business hours.

SUPPLEMENTARY INFORMATION: The purpose for which the withdrawal was first made requires this extension to continue protection of the Desert National Wildlife Range wildlife habitat and unique resource values within the area. The withdrawal extended by this order will now expire on August 3, 2034, unless as a result of a review conducted prior to the expiration date pursuant to Section 204(f) of the Federal Land Policy and Management Act of 1976, 43 U.S.C. 1714(f), the Secretary determines that the withdrawal shall be further extended.

Order

By virtue of the authority vested in the Secretary of the Interior by Section 204 of the Federal Land Policy and Management Act of 1976, 43 U.S.C. 1714, it is ordered as follows:

Public Land Order No. 7070 (59 FR 28790 (1994)), with respect to 768,997 acres of public mineral estate described in 78 FR 58554 (2013), which withdrew 769,543 acres of public mineral estate from location and entry under the United States mining laws (30 U.S.C. Ch. 2), but not from leasing under the mineral leasing laws, is hereby extended for an additional 20-year period until August 3, 2034.

Dated: July 20, 2014.
Janice M. Schneider,
Assistant Secretary—Land and Minerals Management.

[FR Doc. 2014-19846 Filed 8-20-14; 8:45 am]

BILLING CODE 4310-55-P